DEPARTMENT OF COMMERCE

Foreign-Trade Zones Board

[S-72-2014]

Approval of Subzone Status, The Coleman Company, Inc., Sauk Rapids, Minnesota

On June 9, 2014, the Executive Secretary of the Foreign-Trade Zones (FTZ) Board docketed an application submitted by the Greater Metropolitan Area Foreign Trade Zone Commission, grantee of FTZ 119, requesting subzone status subject to the existing activation limit of FTZ 119 on behalf of The Coleman Company, Inc., in Sauk Rapids, Minnesota.

The application was processed in accordance with the FTZ Act and Regulations, including notice in the Federal Register inviting public comment (79 FR 33903-33904, 6-13-2014). The FTZ staff examiner reviewed the application and determined that it meets the criteria for approval.

Pursuant to the authority delegated to the FTZ Board's Executive Secretary (15 CFR Sec. 400.36(f)), the application to establish Subzone 119I is approved, subject to the FTZ Act and the Board's regulations, including Section 400.13, and further subject to FTZ 119's 2,000-acre activation limit.

Dated: March 18, 2015.
Andrew McGilvray,
Executive Secretary.

[FR Doc. 2015-06748 Filed 3-23-15; 8:45 am]

BILLING CODE 3510-DS-P